SECURITIES AND EXCHANGE COMMISSION

[Release No. 34-85178; File No. SR-CboeBZX-2018-078]

Self-Regulatory Organizations; Cboe BZX Exchange, Inc.; Notice of Deemed Approval of a Proposed Rule Change, as Modified by Amendment No. 1, To List and Trade Shares of the WisdomTree Long-Term Treasury PutWrite Strategy Fund, WisdomTree Corporate Bond PutWrite Strategy Fund, WisdomTree International PutWrite Strategy Fund, and WisdomTree Emerging Markets PutWrite Strategy Fund, Each a Series of WisdomTree Trust, Under Rule 14.11(i) (Managed Fund Shares)

February 22, 2019.

On October 9, 2018, Cboe BZX Exchange, Inc. filed with the Securities and Exchange Commission (“Commission”), pursuant to Section 19(b)(1) of the Securities Exchange Act of 1934 (“Act”) ¹ and Rule 19b-4 thereunder,² a proposed rule change to list and trade the shares of the WisdomTree Long-Term Treasury PutWrite Strategy Fund, WisdomTree Corporate Bond PutWrite Strategy Fund, WisdomTree International PutWrite Strategy Fund, and WisdomTree Emerging Markets PutWrite Strategy Fund, each a series of the WisdomTree Trust.

¹ 15 U.S.C. 78s(b)(1).

² 17 CFR 240.19b-4.

The proposed rule change was published for comment in the Federal Register on October 25, 2018.³ On December 3, 2018, the Exchange filed Amendment No. 1 to the proposed rule change, which replaced and superseded the proposed rule change as originally filed.⁴ On December 7, 2018, pursuant to Section 19(b)(2) of the Act,⁵ the Commission designated a longer period within which to approve the proposed rule change, disapprove the proposed rule change, or institute proceedings to determine whether to disapprove the proposed rule change, as modified by Amendment No. 1.⁶ The Commission received no comment letters on the proposed rule change.

³ See Securities Exchange Act Release No. 84456 (October 19, 2018), 83 FR 53928.

⁴ Amendment No. 1 to the proposed rule change is available at: https://www.sec.gov/comments/sr-cboebzx-2018-078/srcboebzx2018078-4777670-176817.pdf.

⁵ 15 U.S.C. 78s(b)(2).

⁶ See Securities Exchange Act Release No. 63943, 83 FR 84750 (Dec. 12, 2018). The Commission designated January 23, 2019, as the date by which it should approve, disapprove, or institute proceedings to determine whether to disapprove the proposed rule change.

As of January 23, 2019, pursuant to Section 19(b)(2)(D) of the Act,⁷ the proposed rule change (SR-CboeBZX-2018-078), as modified by Amendment No. 1, was deemed to have been approved by the Commission.

⁷ 15 U.S.C. 78s(b)(2)(D).

For the Commission, by the Division of Trading and Markets, pursuant to delegated authority.⁸
⁸ 17 CFR 200.30-3(a)(12).
Eduardo A. Aleman,
Deputy Secretary.

[FR Doc. 2019-03464 Filed 2-27-19; 8:45 am]

BILLING CODE 8011-01-P